DEPARTMENT OF COMMERCE

National Oceanic and Atmospheric Administration

50 CFR Part 679

RIN 0648-BG54

Fisheries of the Exclusive Economic Zone Off Alaska; Integrating Electronic Monitoring Into the North Pacific Observer Program

AGENCY: National Marine Fisheries Service (NMFS), National Oceanic and Atmospheric Administration (NOAA), Commerce.

ACTION: Notice of availability of fishery management plan amendments; request for comments; notice of public hearing.

SUMMARY: The North Pacific Fishery Management Council submitted Amendment 114 to the Fishery Management Plan for Groundfish of the Bering Sea and Aleutian Islands Management Area and Amendment 104 to the Fishery Management Plan for Groundfish of the Gulf of Alaska (collectively referred to as the FMPs) to the Secretary of Commerce (Secretary) for review. If approved, Amendments 114/104 would integrate electronic monitoring into the North Pacific Observer Program. This action is necessary to improve the collection of data necessary for the conservation, management, and scientific understanding of managed fisheries. Amendments 114/104 are intended to promote the goals and objectives of the Magnuson-Stevens Fishery Conservation and Management Act, the FMPs, and other applicable laws.

DATES: Comments must be received no later than May 9, 2017.

Per section 313 of the Magnuson-Stevens Act, NMFS will conduct public hearings to accept oral and written comments on the proposed rule in Oregon, Washington, and Alaska during the public comment period.

The first public hearing will be held in conjunction with the April meeting of the North Pacific Fishery Management Council on April 6, 2017, 6 p.m. to 8 p.m., Alaska local time, at the Hilton Hotel, 500 W 3rd Ave., Anchorage, AK 99501.

The second public hearing will be on April 18, 2017, 10 a.m. to 12 p.m., Pacific daylight time, at the International Pacific Halibut Commission office, 2320 West Commodore Way, Suite 300, Seattle, WA 98199.

The third public hearing will be held on April 19, 2017, 1 p.m. to 3 p.m., Pacific daylight time, at the Hatfield Marine Science Center, Lavern Weber Room, 2030 SE Marine Science Drive, Newport, OR 97365.

ADDRESSES: You may submit comments on this document, identified by NOAA-NMFS-2016-0154, by any of the following methods:

• Electronic Submission: Submit all electronic public comments via the Federal eRulemaking Portal. Go to www.regulations.gov/#!docketDetail;D=NOAA-NMFS-2016-0154, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendments 114 and 104 and the Draft Environmental Assessment/Regulatory Impact Review prepared for this action (collectively the “Analysis”) may be obtained from www.regulations.gov.

FOR FURTHER INFORMATION CONTACT: Gretchen Harrington or Jennifer Watson, 907-586-7228.

SUPPLEMENTARY INFORMATION: The Magnuson-Stevens Fishery Conservation and Management Act (Magnuson-Stevens Act) requires that each regional fishery management council submit any fishery management plan amendment it prepares to NMFS for review and approval, disapproval, or partial approval by the Secretary of Commerce. The Magnuson-Stevens Act also requires that NMFS, upon receiving a fishery management plan amendment, immediately publish a notice in the Federal Register announcing that the amendment is available for public review and comment. This notice announces that proposed Amendments 114/104 to the FMPs are available for public review and comment.

NMFS manages the groundfish fisheries in the exclusive economic zone under the FMPs. The North Pacific Fishery Management Council (Council) prepared the FMPs under the authority of the Magnuson-Stevens Act, 16 U.S.C. 1801 et seq. Regulations governing U.S. fisheries and implementing the FMP appear at 50 CFR parts 600 and 679.

Amendments 114/104 to the FMPs would amend the Council's fisheries research plan prepared under the authority of section 313 of the Magnuson-Stevens Act. NMFS published regulations implementing the plan on November 21, 2012 (77 FR 70062). The Council's fisheries research plan is implemented through the North Pacific Observer Program (Observer Program) and its purpose is to collect data necessary for the conservation, management, and scientific understanding of the groundfish and halibut fisheries off Alaska.

In December 2016, the Council adopted Amendments 114/104 to integrate electronic monitoring (EM) into the Observer Program. The Observer Program is an integral component in the management of North Pacific fisheries. The Observer Program provides the regulatory framework for NMFS-certified observers (observers) to be deployed onboard vessels to obtain information necessary for the conservation and management of the groundfish fisheries, and, although not managed under the FMPs, the halibut fisheries. The information collected by observers contributes to the best available scientific information used to manage the fisheries in furtherance of the purposes and national standards of the Magnuson-Stevens Act. Observers collect biological samples and information on total catch, including bycatch, and interactions with protected species. Managers use data collected by observers to manage groundfish catch and bycatch limits established in regulation and to document fishery interactions with protected resources. Managers also use data collected by observers to inform the development of management measures that minimize bycatch and reduce fishery interactions with protected resources. Scientists use observer-collected data for stock assessments and marine ecosystem research.

In 2013, the Council and NMFS restructured the Observer Program to address longstanding concerns about statistical bias of observer-collected data and cost inequality among fishery participants with the funding and deployment structure under the previous Observer Program (77 FR 70062, November 21, 2012). The restructured Observer Program established two observer coverage categories: Partial and full. All groundfish and halibut vessels and processors are included in one of these two categories. The partial coverage category includes fishing sectors (vessels and processors) that are not required to have an observer at all times. The partial coverage category includes catcher vessels, shoreside processors, and stationary floating processors when they are not participating in a catch share program with a transferrable prohibited species catch limit. Small catcher/processors that meet certain criteria are also in the partial coverage category. Proposed Amendments 114/104 are designed to integrate EM in the partial coverage category and would not change provisions in the FMP that apply to the full coverage category.

NMFS contracts with an observer provider and determines when and where observers are deployed, based on a scientific sampling design for the partial coverage category. The restructured Observer Program created a new observer funding system to fund observer deployment in the partial coverage category. Vessels and processors in the partial coverage category pay a fee equal to1.25 percent of the fishery ex-vessel value.

The restructured Observer Program includes vessel sectors (the halibut sector and the less than 60 ft. length overall (LOA) groundfish sector) that were not subject to any observer requirements under the previous program. Even before implementing the restructured Observer Program, many vessel owners and operators new to the Observer Program were opposed to carrying an observer (77 FR 70062, November 21, 2012). Vessel owners and operators explained that there is limited space on board for an additional person or limited space in the vessel's life raft. Some vessel owners, operators, and industry representatives advocated for the use of EM instead of having an observer on board their vessels. To address their concerns, the Council and NMFS have been actively engaged in developing EM as a tool to collect fishery data.

In 2013, NMFS developed, and the Council adopted, the Strategic Plan for Electronic Monitoring and Electronic Reporting in the North Pacific to guide integration of monitoring technologies into North Pacific fisheries management and provide goals and benchmarks to evaluate attainment of goals (available on the Alaska Fisheries Science Center Web site at http://www.afsc.noaa.gov/Publications/AFSC-TM/NOAA-TM-AFSC-276.pdf).

In 2014, the Council appointed an EM Workgroup to develop an EM program to integrate into the Observer Program. The EM Workgroup provides a forum for stakeholders, including the commercial fishery participants, NMFS, Alaska Department of Fish and Game, and EM service providers, to cooperatively and collaboratively design, test, and develop EM systems, and to identify key decision points related to operationalizing and integrating EM systems into the Observer Program in a strategic manner. Amendments 114/104 reflect the design and recommendations of the EM Workgroup. Additional information on the work of the EM Workgroup is provided in the Analysis (see ADDRESSES).

The Council and NMFS developed EM for data collection for vessels that use nontrawl gear in the partial coverage category to address their desire for an alternative way to collect fisheries data in consideration of the operating requirements of these fisheries. Nontrawl gear fishery participants identified unique issues with carrying an observer. Vessel owners and operators explained that there is limited space onboard for an additional person or limited space in the vessel's life raft. EM has the potential to reduce economic and operational costs associated with deploying human observers throughout coastal Alaska. Through the use of EM, it may be possible to obtain at-sea data from a broader cross-section of the nontrawl gear fleet at lower cost and increase flexibility to respond to the scientific and management needs of these fisheries.

Proposed Amendments 114/104 would revise the FMPs to include provisions for the use of EM systems in the Executive Summary, Section 3.2.4, Section 3.9, and Appendix A. Under proposed Amendments 114/104, owners or operators of vessels using nontrawl gear in the partial coverage category would be able to choose to use an EM system instead of carrying an observer. An EM system uses cameras, a video storage devise, and associated sensors to passively record and monitor fishing activities. The video is reviewed by an analyst onshore at a later time to collect catch and effort information.

NMFS would contract with an EM service provider to install EM systems on vessels. NMFS would use a portion of the fee revenues to fund EM systems and EM deployment under proposed Amendments 114/104, as authorized by section 313 of the Magnuson-Stevens Act.

The EM service provider would work with the vessel owner or operator to develop the vessel monitoring plan. The vessel monitoring plan would describe how fishing operations on the vessel would be conducted and how the EM system and associated equipment would be configured to meet the data collection objectives and purpose of the EM program. The proposed rule to implement proposed Amendments 114/104 provides the details of the responsibilities of vessel owners or operators if they decide to participate in EM.

Owners or operators of vessels using nontrawl gear could request to be in the EM selection pool. During the fishing year, NMFS would randomly select vessels in the EM selection pool to use an EM system on a fishing trip according to the sampling design in the annual deployment plan (ADP). The ADP would describe how NMFS plans to deploy observers on vessels in the partial coverage category in the upcoming year, to determine the criteria for the EM selection pool and to deploy EM on fishing trips in the upcoming year. NMFS uses the sampling design to generate unbiased estimates of total and retained catch, and catch composition in the groundfish and halibut fisheries. NMFS would make adjustments to the ADP each year after NMFS conducts a scientific evaluation of data collected by observers and EM systems to evaluate the impact of changes in observer and EM system deployment and identify areas where improvements are needed to collect the data necessary to conserve and manage the groundfish and halibut fisheries. The Council and its Scientific and Statistical Committee (SSC) review the ADP each October, receive public comments on the ADP, and make additional recommendations for improvements. NMFS finalizes the ADP in December and releases it prior to the start of the fishing year. NMFS posts the ADP on the NMFS Alaska Region Web site (http://alaskafisheries.noaa.gov).

Each year, NMFS would also evaluate in the Annual Report how well various aspects of the Observer Program and the EM deployment are achieving program goals, identify areas where improvements are needed, and make recommendations to modify the sampling design in the upcoming ADP. The SSC and Council review the Annual Report each June, and receive public comments on the Annual Report, and make additional recommendations for improvements. NMFS posts the Annual Report on the NMFS Alaska Region Web site (http://alaskafisheries.noaa.gov).

NMFS is soliciting public comments on proposed Amendments 114/104 through the end of the comment period (see DATES). NMFS intends to publish in the Federal Register and seek public comment on a proposed rule that would implement Amendments 114/104, following NMFS' evaluation of the proposed rule under the Magnuson-Stevens Act. Magnuson-Stevens Act section 313 requires NMFS to provide a 60-day public comment period on the proposed rule and conduct a public hearing in each state represented on the Council for the purpose of receiving public comment on the proposed regulations. The states represented on the Council are Alaska, Oregon, and Washington. NMFS will conduct a public hearing in each of these states (see DATES).

People wanting to make an oral statement for the record at the public hearing are encouraged to provide a written copy of their statement and present it to NMFS at the hearing. If attendance at the public hearing is large, the time allotted for individual oral statements may be limited. Oral and written statements receive equal consideration. There are no limits on the length of written comments submitted to NMFS.

Respondents do not need to submit the same comments on Amendments 114/104, the proposed rule, and at a public hearing. All relevant written and oral comments received by the end of the applicable comment period, whether specifically directed to the FMP amendments, this proposed rule, or both, will be considered by NMFS in the approval/disapproval decision for Amendments 114/104 and addressed in the response to comments in the final decision. Comments received after end of the applicable comment period will not be considered in the approval/disapproval decision on Amendments 114/104. To be considered, comments must be received, not just postmarked or otherwise transmitted, by the last day of the comment period (see DATES).

Authority: 16 U.S.C. 1801 et seq.

Dated: March 6, 2017.
Karen H. Abrams,
Acting Deputy Director, Office of Sustainable Fisheries, National Marine Fisheries Service.

[FR Doc. 2017-04716 Filed 3-9-17; 8:45 am]

BILLING CODE 3510-22-P